DEPARTMENT OF ENERGY

[Number DE-PS36-03GO93007]

DOE Expression of Program Interest Regarding Hydrogen Production and Delivery Research

AGENCY: Golden Field Office, U.S. Department of Energy (DOE).

ACTION: Issuance of Expression of Program Interest (EOPI).

SUMMARY: The U.S. Department of Energy (DOE) Office of Hydrogen, Fuel Cells, and Infrastructure Technologies, as part of the President's FreedomCAR and Fuel Initiative, is requesting information through this Expression of Program Interest (EOPI) from interested parties regarding topics for research and development in the hydrogen production and delivery technologies areas. DOE may use this information in preparation of a solicitation and is seeking input from the hydrogen community to ensure topics covered in the solicitation encompass promising technology areas.

DATES: The EOPI is currently open and will close on March 14, 2003. It is anticipated that a solicitation will be issued later in Fiscal Year (FY) 2003.

ADDRESSES: To obtain a copy of the EOPI, interested parties should access the DOE Golden Field Office Web site at http://www.golden.doe.gov/businessopportunities.html, click on “Solicitations”, and then access the solicitation link. The link will provide direct access to the EOPI (listed as DE-PS36-03GO93007) on the DOE Industry Interactive Procurement System (IIPS) Web site. Instructions for using the IIPS Web site are provided at http://www.golden.doe.gov/businessopportunities.html.

The EOPI can also be obtained directly through IIPS at http://e-center.doe.gov by browsing for existing business opportunities and then browsing “Opportunities by Program Office” for those actions issued by the Golden Field Office. DOE will not issue paper copies of the EOPI.

Any future solicitation resulting from this EOPI will be assigned the same Number (DE-PS36-03GO93007) and will be accessible via the Golden Field Office Web site or IIPS Web site as described above.

FOR FURTHER INFORMATION CONTACT: The EOPI submissions and any questions should be sent via e-mail to: hydrogen_interest@nrel.gov.

SUPPLEMENTARY INFORMATION: The U.S. Department of Energy (DOE) Office of Hydrogen, Fuel Cells, and Infrastructure Technologies, as part of the President's FreedomCAR and Fuel Initiative, is requesting information from interested parties regarding topics for research and development in the hydrogen production and delivery technologies areas. DOE is preparing to issue a solicitation and is seeking input from the hydrogen community to ensure topics covered in the solicitation encompass promising technology areas. A framework for submissions is provided in the EOPI, including objective, types information to be submitted, format requirements, and eligibility. Please note that submissions to DOE under this EOPI are provided for information only and will not result in any type of award or financial assistance from DOE to the submitter. Also, DOE will not reimburse any costs associated with submissions under this EOPI.

It is anticipated that a solicitation will be issued later in FY 2003, with DOE financial assistance awards made in FY 2004. A separate announcement will be made by DOE for the issuance of the solicitation.

Issued in Golden, Colorado, on February 19, 2003.
Jerry L. Zimmer,
Director, Office of Acquisition and Financial Assistance.

[FR Doc. 03-4864 Filed 2-28-03; 8:45 am]

BILLING CODE 6450-01-P